DEPARTMENT OF AGRICULTURE

Forest Service

National Urban and Community Forestry Advisory Council

AGENCY: Forest Service, USDA.

ACTION: Preannouncement of 2009 Urban and Community Forestry Grant Process.

SUMMARY: The National Urban and Community Foresty Advisory Council, (NUCFAC), is charged, by law, to provide recommendations to the Secretary of Agriculture on urban forestry related issues and opportunities. Part of the Council's role is to recommend the criteria for the U.S. Forest Service's Urban and Community Forestry, (U&CF) Challenge Cost Share Grant Program.

NUCFAC is revising their criteria for the U.S. Forest Service's U&CF Challenge Cost Share Grant Program for 2009. The new U&CF Challenge Cost Share Grant Program is designed to reflect this change, and implement new procedures that reduce the paperwork burden on potential grantees. Grants for 2009 will be solicited in two categories:

Innovation Grants

NUCFAC anticipates recommending a small number of significant grants intended to address, on a national or regional level, the highest priority issues confronting the UC&F community. NUCFAC will seek proposals from organizations and partnerships that demonstrate the reach, resources and expertise needed to deliver meaningful, replicable results. As much as $500,000 would be available in 2009 for one or more Innovation Grants.

NUCFAC is in the process of identifying priority issues that might be addressed through Innovation Grants in 2009. Please forward any suggestions to Nancy Stremple, nstremple@fs.fed.us by close of business, (C.O.B.), October 30, 2008.

2009 Best Practices Grants

Smaller grants up to $50,000 for organizations that can implement, demonstrate, and disseminate replicable approaches to:

• Recruit advocates for urban forestry;

• Make best practices/latest science in urban forestry accessible to practitioners;

• Nurture networks of urban forestry practitioners within existing conservation, organizations, professional societies, social networks, and internet communities; and

• Address other challenges to the U&CF community.

DATES: Suggestions are due by close of business, (C.O.B.), October 30, 2008.

ADDRESSES: Written comments concerning this announcement should be addressed to Nancy Stremple, Executive Staff to National Urban and Community Forestry Advisory Council, 201 14th St., SW., Yates Building (1 Central) MS-1151, Washington, DC 20250-1151. Comments may also be sent via e-mail to nstremple@fs.fed.us, or via facsimile to 202-690-5792.

All comments, including names and addresses when provided, are placed in the record and are available for public inspection and copying. The public may inspect comments received at 201 14th St., SW., Yates Building (1 Central) MS-1151, Washington, DC 20250-1151. Visitors are encouraged to call ahead to 202-205-1054 to facilitate entry into the building.

FOR FURTHER INFORMATION CONTACT: Nancy Stremple, Executive Staff or Robert Prather, Staff Assistant to National Urban and Community Forestry Advisory Council, 201 14th St., SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: The announcement of the 2009 Challenge Grant Program is planned for late November 2008. At that time, more details about application requirements, criteria for judging proposals, and priorities for Innovation Grants and Best Practices Grants will be available at: http://www.grants.gov.

If interested applicants are not already registered in grants.gov, they are encouraged to register now. The process may take up to two weeks to collect the required information.

Dated: October 1, 2008.
John Phipps,
Associate Deputy Chief, State and Private Forestry .

[FR Doc. E8-23778 Filed 10-7-08; 8:45 am]

BILLING CODE 3410-11-P